DEPARTMENT OF TRANSPORTATION

Office of the Secretary

Aviation Proceedings, Agreements Filed During the Week Ending November 22, 2002

The following Agreements were filed with the Department of Transportation under the provisions of 49 U.S.C. Sections 412 and 414. Answers may be filed within 21 days after the filing of the application.

Docket Number: OST-2002-13866.

Date Filed: November 18, 2002.

Parties: Members of the International Air Transport Association.

Subject: PSC/Reso/116 dated November 11, 2002, Expedited Resolutions r1-r14, Intended effective date: expedited 2 January 2003.

Docket Number: OST-2002-13873.

Date Filed: November 19, 2002.

Parties: Members of the International Air Transport Association.

Subject: PTC31 N&C/CIRC 0221 dated 15 November 2002, TC31 North and Central Pacific Areawide Expedited Resolution r1, PTC31 N&C/CIRC 0223 dated 15 November 2002, TC3-Central America, South America Expedited Resolutions r2-r6, Intended effective date: 1 January 2003.

Docket Number: OST-2002-13874.

Date Filed: November 19, 2002.

Parties: Members of the International Air Transport Association.

Subject: PTC31 N&C/CIRC 0222 dated 15 November 2002, TC3 (except Japan)-North America, Caribbean Expedited Resolutions r1-r10 (except between Malaysia and USA), Intended effective date: 1 January 2003.

Docket Number: OST-2002-13919.

Date Filed: November 22, 2002.

Parties: Members of the International Air Transport Association.

Subject: PTC COMP 0980 dated 22 November 2002, Mail Vote 253—Resolution 010j, TC3/TC23 Special Passenger Amending Resolution from Papua New Guinea, Intended effective date: 1 December 2002.

Docket Number: OST-2002-13920.

Date Filed: November 22, 2002.

Parties: Members of the International Air Transport Association.

Subject: PTC2 EUR 0484 dated 8 November 2002 r1-r32, PTC2 EUR 0485 dated 8 November 2002 r33-r39, PTC2 EUR 0487 dated 15 November 2002 r40-r50, Minutes—PTC2 EUR 0488 dated 15 November 2002, Tables—PTC2 EUR Fares 0070 dated 8 November 2002, Intended effective dates: 1 March, 1 April, 2 April 2003.

Docket Number: OST-2002-13921.

Date Filed: November 22, 2002.

Parties: Members of the International Air Transport Association.

Subject: PTC COMP 0978 dated 22 November 2002, Mail Vote 252—Resolution 010i, TC3/TC23 Special Passenger Amending Resolution from Korea (Dem. Rep. of) r1, Intended effective date: 1 December 2002.

Dorothy Y. Beard,
Federal Register Liaison.

[FR Doc. 02-30736 Filed 12-3-02; 8:45 am]

BILLING CODE 4910-62-P